DEPARTMENT OF HEALTH AND HUMAN SERVICES

Administration for Children and Families

Submission for OMB Review; Success Sequence Qualitative Interviews (New Collection)

AGENCY: Office of Planning, Research, and Evaluation, Administration for Children and Families, HHS.

ACTION: Request for public comment.

SUMMARY: The Office of Planning, Research, and Evaluation (OPRE), Administration for Children and Families (ACF), U.S. Department of Health and Human Services (HHS), proposes interview data collection activities for the Success Sequence Interviews study.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: OPRE/ACF/HHS proposes qualitative data collection as part of the Success Sequence Interviews study. The goal of this project is to understand complex decisions and circumstances of youth transitions to adulthood and explore the complexities around achieving the success sequence milestones of high school graduation, full-time employment, getting married, and having children. The data collected from the interviews will help ACF and the broader research field understand adults' perspectives and experiences related to the milestones, and will provide ACF's Family and Youth Services Bureau's Sexual Risk Avoidance Education grant program with greater insight into the program content and strategies related to the success sequence milestones and their ordering that could best resonate with youth. To support these efforts, we seek approval from the Office of Management and Budget to collect qualitative interview data from adults ages 30-35, recruiting from online research panels with participants across all U.S. regions. We propose the following data collection instruments:

(1) Success Sequence Screener: The screener will be administered by telephone. Information collected through the screener will be used to screen interview respondents into the study based on respondent demographics, household income, geographic location, and life milestones.

(2) Success Sequence Interview Protocol: We will administer an asynchronous interview with adults ages 30-35. Information collected through the interview protocol includes respondent life history focused on education, employment and work experience, family life, and financial status.

Respondents: A total of 225 interview respondents will be recruited from existing large national online panels of research participants.

Annual Burden Estimates
Instrument | Total number of respondents | Total number of responses per respondent | Average burden per response (in hours) | Total/annual burden (in hours)
(1) Success Sequence Screener | 675 | 1 | .083 | 56
(2) Success Sequence Interview Topic Guide | 225 | 1 | .75 | 169

Estimated Total Annual Burden Hours: 225.

Authority: Sec. 510. [42 U.S.C. 710].

Mary B. Jones,
ACF/OPRE Certifying Officer.

[FR Doc. 2022-00366 Filed 1-11-22; 8:45 am]

BILLING CODE 4184-83-P